DEPARTMENT OF THE INTERIOR

Fish and Wildlife Service

[FWS-R2-ES-2010-N028; 20124-11130000-C4]

Endangered and Threatened Wildlife and Plants; 5-Year Status Reviews of 14 Southwestern Species

AGENCY: Fish and Wildlife Service, Interior.

ACTION: Notice of initiation of review; request for information.

SUMMARY: We, the U.S. Fish and Wildlife Service (Service), are initiating 5-year status reviews of 14 southwestern species listed under the Endangered Species Act of 1973 (Act). We conduct these reviews to ensure that our classification of each species on the Lists of Endangered and Threatened Wildlife and Plants as threatened or endangered is accurate. A 5-year review assesses the best scientific and commercial data available at the time of the review. We are requesting the public send us any information that has become available since our original listing of each of these species. Based on review results, we will determine whether we should change the listing status of any of these species.

DATES: To ensure consideration in this status review, please send your written information by June 28, 2010. However, we will continue to accept new information about any listed species at any time.

ADDRESSES: Submit information on these species to us at the addresses under “Public Comments” in the SUPPLEMENTARY INFORMATION section. We will make information we receive in response to this notice available for public inspection by appointment, during normal business hours, at the same addresses.

FOR FURTHER INFORMATION CONTACT: Contact the appropriate office named in “Public Comments” for species-specific information.

SUPPLEMENTARY INFORMATION:

Why Do We Conduct a 5-Year Review?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the following 14 species since their original listings as either endangered (Alamosa springsnail, Hualapai Mexican vole, northern aplomado falcon, Rio Grande silvery minnow, Sneed pincushion cactus, star cactus, Texas prairie dawn-flower, Texas trailing phlox, white bladderpod, and whooping crane) or threatened (Gila trout, Lee pincushion cactus, loach minnow, and spikedace). If the present classification of any of these species is not consistent with the best scientific and commercial information available, we will recommend whether or not a change is warranted in the Federal classification of that species. Any change in Federal classification would require a separate rulemaking process.

Our regulations at 50 CFR 424.21 require that we publish a notice in the Federal Register announcing those species currently under active review. This notice announces our active review of the 14 species listed in Table 1.

What Do We Consider in Our Review?

A 5-year review considers all new information available at the time of the review. These reviews will consider the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How Are These Species Currently Listed?

The List of Endangered and Threatened Wildlife and Plants (List) is found in 50 CFR 17.11 (wildlife) and 17.12 (plants). Amendments to the List through final rules are published in the Federal Register. The List is also available on our Internet site at http://www.fws.gov/endangered/wildlife.html. In Table 1 below, we provide a summary of the current listing information for the species under active review.

Table 1—Current Listing Status of Species Under 5-Year Status Review
Common name | Scientific name | Status | Where listed | Final listing rule publication date and citation
ANIMALS
Alamosa springsnail | Tryonia alamosae | Endangered | U.S.A. (NM) | September 30, 1991 (56 FR 49646).
Gila trout | Oncorhynchus gilae | Threatened | U.S.A. (AZ, NM) | May 11, 2005 (70 FR 24750).
Hualapai Mexican vole | Microtus mexicanus hualpaiensis | Endangered | U.S.A. (AZ) | October 1, 1987 (52 FR 36776).
Loach minnow | Tiaroga cobitis | Threatened | U.S.A. (AZ, NM) | October 28, 1986 (51 FR 39468).
Northern aplomado falcon | Falco femoralis septentrionalis | Endangered, Experimental, Non-essential | U.S.A. (AZ, NM, TX) | February 25, 1986 (51 FR 6686).
Rio Grande silvery minnow | Hybognathus amarus | Endangered | U.S.A. (NM, TX) | July 20, 1994 (59 FR 36988).
Spikedace | Meda fulgida | Threatened | U.S.A. (AZ, NM) | July 1, 1986 (51 FR 23769).
Whooping crane | Grus americana | Endangered, Experimental Non-essential | U.S.A. (TX + 27 states) | March 11, 1967 (32 FR 4001).
PLANTS
Lee pincushion cactus | Coryphantha sneedii leei | Threatened | U.S.A. (NM) | October 25, 1979 (44 FR 61554).
Sneed pincushion cactus | Coryphantha sneedii sneedii | Endangered | U.S.A. (NM, TX) | November 7, 1979 (44 FR 64741).
Star cactus | Astrophytum asterias | Endangered | U.S.A. (TX) | October 18, 1993 (58 FR 53804).
Texas prairie dawn-flower | Hymenoxys texana | Endangered | U.S.A. (TX) | March 13, 1986 (51 FR 8681).
Texas trailing phlox | Phlox nivalis texensis | Endangered | U.S.A. (TX) | September 30, 1991 (56 FR 49636).
White bladderpod | Lesquerella pallida | Endangered | U.S.A. (TX) | March 11, 1987 (52 FR 7424).

Definitions

In classifying, we use the following definitions:

A. Species includes any species or subspecies of fish, wildlife, or plant, and any distinct population segment of any species of vertebrate, which interbreeds when mature.

B. Endangered species (E) means any species that is in danger of extinction throughout all or a significant portion of its range.

C. Threatened species (T) means any species that is likely to become an endangered species within the foreseeable future throughout all or a significant portion of its range.

D. Experimental population—non-essential (XN) means any population of an endangered or threatened species (including any offspring arising solely therefrom) authorized for release (and the related transportation) outside the current range of the species, that is wholly separate geographically from nonexperimental populations of the same species, to promote the further conservation of that species.

How Do We Determine Whether a Species Is Endangered or Threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of Our Review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

Public Comments

Submit information regarding whooping crane (Grus americanus) to the Refuge Manager, Aransas National Wildlife Refuge Complex, P.O. Box 100, Austwell, TX 77950. The office phone number is 361-286-3559.

Submit information regarding Hualupai Mexican vole (Microtus mexicanus hualpaiensis), loach minnow (Tiaroga cobitis), and spikedace (Meda fulgida) to the Field Supervisor, Attention 5-year Review, U.S. Fish and Wildlife Service, Arizona Ecological Services Field Office, 2321 West Royal Palm Road, Suite 103, Phoeniz, AZ 85021. The office phone number is 602-242-0210.

Submit information regarding Texas prairie dawn-flower (Hymenoxys texana), Texas trailing phlox (Phlox nivalis texensis), and white bladderpod (Lesquerella pallida) to the Field Supervisor, Attention 5-year Review, U.S. Fish and Wildlife Service, Clear Lake Ecological Services Field Office, 17629 El Camino Real, Suite 211, Houston, TX 77058. The office phone number is 281-286-8282.

Submit information regarding star cactus (Astrophytum asterias) to the Field Supervisor, Attention 5-year Review, U.S. Fish and Wildlife Service, Corpus Christi Ecological Services Field Office, c/o TAMU-CC, 6300 Ocean Drive, Unit 5837, Corpus Christi, TX 78412. The office phone number is 361-994-9005.

Submit information regarding Alamosa springsnail (Tryonia alamosae), Gila trout (Oncorhynchus gilae), Lee pincushion cactus (Coryphantha sneedii leei), northern aplomado falcon (Falco femoralis septentrionalis), Rio Grande silvery minnow (Hybognathus amarus), and Sneed pincushion cactus (Coryphantha sneedii sneedii) to the Field Supervisor, Attention 5-year Review, U.S. Fish and Wildlife Service, New Mexico Ecological Services Field Office, 2105 Osuna Road NE, Albuquerque, NM 87113. The office phone number is 505-346-2525.

Request for New Information

We request any new information concerning the status of the 14 species in Table 1. See “What Information Do We Consider in Our Review?” for specific criteria. Information submitted should be supported by documentation such as maps, bibliographic references, methods used to gather and analyze the data, and/or copies of any pertinent publications, reports, or letters by knowledgeable sources. Before including your address, phone number, e-mail address, or other personal identifying information in your comments, you should be aware that your entire comment—including your personal identifying information—may be made publicly available at any time. While you can ask us in your comment to withhold your personal identifying information from public review, we cannot guarantee that we will be able to do so.

Authority

This document is published under the authority of the Endangered Species Act (16 U.S.C. 1531 et seq.).

Dated: January 29, 2010.
Thomas L. Bauer,
Regional Director, Region 2.

[FR Doc. 2010-6868 Filed 3-26-10; 8:45 am]

BILLING CODE 4310-55-P